INTERNATIONAL TRADE COMMISSION

[USITC SE-12-012]

Government in the Sunshine Act Meeting Notice

AGENCY HOLDING THE MEETING: International Trade Commission.

TIME AND DATE: April 19, 2012 at 11 a.m.

PLACE: Room 101, 500 E Street SW., Washington, DC 20436, Telephone: (202) 205-2000.

STATUS: Open to the public.

MATTERS TO BE CONSIDERED: 1. Agendas for future meetings: none.

2. Minutes.

3. Ratification List.

4. Vote in Inv. No. 731-TA-1185 (Final) (Certain Steel Nails from the United Arab Emirates). The Commission is currently scheduled to transmit its determination and Commissioners' opinions to the Secretary of Commerce on or before May 2, 2012.

5. Vote in Inv. Nos. 731-TA-1186 and 1187 (Final) (Certain Stilbenic Optical Brightening Agents from China and Taiwan). The Commission is currently scheduled to transmit its determinations and Commissioners' opinions to the Secretary of Commerce on or before May 2, 2012.

6. Outstanding action jackets: none.

In accordance with Commission policy, subject matter listed above, not disposed of at the scheduled meeting, may be carried over to the agenda of the following meeting.

By Order of the Commission.
Issued: April 10, 2012.
James R. Holbein,
Secretary to the Commission.

[FR Doc. 2012-9020 Filed 4-11-12; 11:15 am]

BILLING CODE P